DEPARTMENT OF AGRICULTURE

Natural Resources Conservation Service

Notice of Availability of the “Natural Resources Conservation Service Conservation Programs Manual—Part 513: Resource Conservation and Development (RC&D) Program”

AGENCY: Natural Resources Conservation Service, Department of Agriculture.

ACTION: Notice; correction.

SUMMARY: The Natural Resources Conservation Service (NRCS) published in the Federal Register notice of October 24, 2006, (71 FR 62246) a document with an incorrect URL. The incorrect URL is located in the SUMMARY section on page 62247. This notice corrects the previously published document.

The Department of Agriculture (USDA), NRC seeks comments on the proposed revision of the “Natural Resources Conservation Service Conservation Programs Manual—Part 513: Resource Conservation and Development (RC&D) Program.” USDA asks for comments from RC&D Council members and individuals from tribal, State, and local governments and organizations involved in either natural resource conservation or community development groups. These comments will assist USDA in policy development and implementation of the RC&D Program. This manual is used by NRCS, other USDA staff members, RC&D Council members, and others that either develop RC&D applications or participate in the RC&D Program.

This revision of the manual reflects changes in the NRCS organizational structure, incorporates new area planning requirements, provides guidelines for the RC&D Program Operations Information Tracking System, and incorporates additional exhibits to increase clarity. It is available for download at http://policy.nrcs.usda.gov/scripts/lpsiis.dll/NB/NB_390_7_1_a.pdf.

DATES: Effective Dates: Comments will be received for a 60-day period commencing with the date of this publication.

ADDRESSES: Address all requests and comments to: Terry D'Addio, National RC&D Program Manager, NRCS, Room 5245-South, 1400 Independence Avenue, SW., Washington, DC 20250-9410.

FOR FURTHER INFORMATION CONTACT: Terry D'Addio: (202) 720-0557; fax: (202) 690-0639; e-mail: terry.d'addio@wdc.usda.gov.

SUPPLEMENTARY INFORMATION: The “Conservation Programs Manual: Part 513—RC&D Program” is a document used by NRCS, other USDA staff members, RC&D Council members, and others that either develop RC&D applications or participate in the RC&D Program. The purpose of this document is to provide policy guidance for the RC&D Program, not to establish regulatory requirements. The RC&D Program was authorized to encourage and improve the capability of State and local units of government and local nonprofit organizations in rural areas to plan, develop, and implement programs for resource conservation and development. Through the establishment of RC&D areas, the program establishes or improves coordination systems in communities, and builds community leadership skills to effectively use Federal, State, and local programs for the communities' benefit. Current program objectives focus on improvements achieved through natural resources conservation and community development. Such activities lead to sustainable communities, prudent land use, and the sound management and conservation of natural resources.

Assistance is provided, as authorized by the Secretary of Agriculture, to designated RC&D areas through their organized RC&D Councils (comprised of local affected officials and civic leaders). RC&D Councils, in association with local, State, and Federal governments and other non-profit organizations, initiate and lead the planning and implementation of their locally developed RC&D area plans. Councils also obtain assistance from other local, State, and Federal agencies, private organizations, and foundations.

USDA prohibits discrimination in all its programs and activities on the basis of race, color, national origin, age, disability, and where applicable, sex, marital status, familial status, parental status, religion, sexual orientation, genetic information, political beliefs, reprisal, or because all or part of an individual's income is derived from any public assistance. (Not all prohibited bases apply to all programs.) Persons with disabilities who require alternative means for communication of program information (Braille, large print, audiotape, etc.) should contact USDA's TARGET Center at (202) 720-2600 (voice and TDD).

To file a discrimination complaint with USDA, write to Director, Office of Civil Rights, 1400 Independence Avenue, SW., Washington, DC 20250-9410; telephone: 1-(800) 795-3272 (voice), or (202) 720-6382 (TDD). USDA is an equal opportunity provider and employer.

Signed in Washington, DC, on November 3, 2006.
Arlen L. Lancaster,
Chief.

[FR Doc. E6-19267 Filed 11-14-06; 8:45 am]

BILLING CODE 3410-16-P